ADVISORY COUNCIL ON HISTORIC PRESERVATION

Notice of Meeting

AGENCY: Advisory Council on Historic Preservation.

ACTION: Notice of meeting.

SUMMARY: Notice is hereby given that the Advisory Council on Historic Preservation (ACHP) will meet on Thursday, November 18, 2004. The meeting will be held in the Dome Room of the Rotunda on The Lawn at the University of Virginia, Charlottesville, Virginia, beginning at 1 p.m.

The ACHP was established by the National Historic Preservation Act of 1966 (16 U.S.C. 470 et seq.) to advise the President and the Congress on matters relating to historic preservation and to comment upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome.

II. Preserve America Community Recognition and Chairman's Awards Presentation.

III. Preserve America Program Development.

IV. Report of the Executive Committee.

A. ACHP FY 2006 Budget Request.

V. Report of the Preservation Initiatives Committee.

A. Heritage Tourism Initiatives.

B. National Heritage Areas Policy Legislation.

VI. Report of the Federal Agency Programs Committee.

A. Interstate Highway System Exemption.

B. Navy/Air Force Wherry Capehart Housing Program Comment.

C. Review of Federal Agency Section 3 Reports.

D. Review of Nationwide Programmatic Agreements.

VII. Report of the Communications, Education, and Outreach Committee.

A. 2005 Preserve America Presidential Awards Program.

VIII. Report of the Department of Defense Task force.

A. Department of Defense Historic Properties Policy.

IX. Report of the Archeology Task Force.

X. Chairman's Report.

A. ACHP Alumni Foundation.

B. Legislative Issues.

1. ACHP Reauthorization Legislation.

2. Surface Transportation Reauthorization Legislation.

3. Department of Veterans Affairs “CARES” Legislation.

C. Native American Advisory Group.

D. ACHP—National Trust Award to NPS—Alliance of Heritage Areas.

XI. Executive Director's Report.

XII. New Business.

XIII. Adjourn.

Note: The meetings of the ACHP are open to the public. If you need special accommodations due to a disability, please contact the Advisory Council on Historic Preservation, 1100 Pennsylvania Avenue, NW., Room 809, Washington, DC, 202-606-8503, at least seven (7) days prior to the meeting.

FOR FURTHER INFORMATION CONTACT: Additional information concerning the meeting is available from the Executive Director, Advisory Council on Historic Preservation, 1100 Pennsylvania Avenue, NW., #809, Washington, DC 20004.

Dated: November 4, 2004.
John M. Fowler,
Executive Director.

[FR Doc. 04-24946 Filed 11-8-04; 8:45 am]

BILLING CODE 4310-10-M